NATIONAL AERONAUTICS AND SPACE ADMINISTRATION

[Notice (10-031)]

NASA Advisory Council; Science Committee; Astrophysics Subcommittee; Meeting

AGENCY: National Aeronautics and Space Administration.

ACTION: Notice of meeting.

SUMMARY: The National Aeronautics and Space Administration (NASA) announces a meeting of the Astrophysics Subcommittee of the NASA Advisory Council (NAC). This Subcommittee reports to the Science Committee of the NAC. The Meeting will be held for the purpose of soliciting from the scientific community and other persons scientific and technical information relevant to program planning.

DATES: Monday, April 12, 2010, 2 p.m. to 5 p.m., EDT.

ADDRESSES: This meeting will take place telephonically and by WebEx. Any interested person may call the USA toll free conference call number (800) 779-1627, pass code APS, to participate in this meeting by telephone. International callers may contact Ms. Marian Norris for country-specific conference call numbers. For WebEx information, please contact Ms. Marian Norris.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Astrophysics Division Update.

—Kepler Data Release Policy.

It is imperative that the meeting be held on this date to accommodate the scheduling priorities of the key participants.

Dated: March 16, 2010.
P. Diane Rausch,
Advisory Committee Management Officer, National Aeronautics and Space Administration and Space Administration.

[FR Doc. 2010-6291 Filed 3-19-10; 8:45 am]

BILLING CODE 7510-13-P